DEPARTMENT OF THE TREASURY

Internal Revenue Service

26 CFR Parts 31 and 301

[REG-116644-01]

RIN 1545-BA18

Receipt of Multiple Notices With Respect to Incorrect Taxpayer Identification Numbers; Hearing Cancellation

AGENCY: Internal Revenue Service (IRS), Treasury.

ACTION: Cancellation of notice of public hearing on proposed rulemaking.

SUMMARY: This document provides notice of cancellation of a public hearing on proposed regulations under sections 3406 and 6724 of the Internal Revenue Code. The proposed regulations clarify the method of determining whether the payor has received two notices that a payee's taxpayer identification number (TIN) is incorrect.

DATES: The public hearing originally scheduled for October 22, 2002, at 10 a.m., is cancelled.

FOR FURTHER INFORMATION CONTACT: Treena Garrett of the Regulations Unit, Associate Chief Counsel (Income Tax and Accounting), (202) 622-7180 (not a toll-free number).

SUPPLEMENTARY INFORMATION: A notice of proposed rulemaking and notice of public hearing that appeared in the Federal Register on July 3, 2002, (67 FR 44579), announced that a public hearing was scheduled for October 22, 2002, at 10 a.m., in room 4718, Internal Revenue Service Building, 1111 Constitution Avenue, NW., Washington, DC. The subject of the public hearing is proposed regulations under sections 3406 and 6724 of the Internal Revenue Code. The public comment period for these proposed regulations expired on October 1, 2002.

The notice of proposed rulemaking and notice of public hearing, instructed those interested in testifying at the public hearing to submit a request to speak and an outline of the topics to be addressed. As of October 10, 2002, no one has requested to speak. Therefore, the public hearing scheduled for October 22, 2002, is cancelled.

Cynthia E. Grigsby,
Chief, Regulations Unit, Associate Chief Counsel (Income Tax and Accounting).

[FR Doc. 02-26451 Filed 10-16-02; 8:45 am]

BILLING CODE 4830-01-P